DEPARTMENT OF AGRICULTURE

Forest Service

Mendocino Resource Advisory Committee

AGENCY: Forest Service, USDA.

ACTION: Notice of meeting.

SUMMARY: The Mendocino County Resource Advisory Committee (RAC) will meet July 20, 2007 in Willits, California. Agenda items to be covered include: (1) Approval of minutes, (2) Public Comment, (3) Extension of RAC (4) Discussion—items of interest (5) Discussion/approval of projects, (6) next agenda items and meeting date.

DATES: The meeting will be held on July 20, 2007, from 9 a.m. to 12 noon.

ADDRESSES: The meeting will be held at the Mendocino County Museum, located at 400 E. Commercial St., Willits, California.

FOR FURTHER INFORMATION CONTACT: Roberta Hurt, Committee Coordinator, USDA, Mendocino National Forest, Covelo Ranger District, 78150 Covelo Road, Covelo, CA 95428. (707) 983-8503; email rhurt@fs.fed.us.

SUPPLEMENTARY INFORMATION: The meeting is open to the public. Persons who wish to bring matters to the attention of the Committee may file written statements with the Committee staff by July 10, 2007. Public will have the opportunity to address the committee at the meeting.

Dated: June 14, 2007.
Jim Ruhl,
Designated Federal Official.

[FR Doc. 07-3073 Filed 6-22-07; 8:45 am]

BILLING CODE 3410-11-M